DEPARTMENT OF ENERGY

Federal Energy Regulatory Commission

Combined Notice of Filings

Take notice that the Commission has received the following Natural Gas Pipeline Rate and Refund Report filings:

Filings in Existing Proceedings

Docket Numbers: RP12-1013-003.

Applicants: Ruby Pipeline, L.L.C.

Description: Revised Compliance in Docket No. RP12-1013 to be effective 5/15/2013.

Filed Date: 4/3/13.

Accession Number: 20130403-5031.

Comments Due: 5 p.m. ET 4/15/13.

Docket Numbers: RP13-762-001.

Applicants: Transcontinental Gas Pipe Line Company.

Description: Negotiated Rates—Momentum—Liberty GA—AMENDMENT to be effective 4/1/2013.

Filed Date: 4/3/13.

Accession Number: 20130403-5117.

Comments Due: 5 p.m. ET 4/15/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated April 4, 2013.
Nathaniel J. Davis, Sr.,
Deputy Secretary.

[FR Doc. 2013-08636 Filed 4-11-13; 8:45 am]

BILLING CODE 6717-01-P